DEPARTMENT OF DEFENSE

48 CFR Chapter 2

Defense Federal Acquisition Regulation Supplement; Technical Amendment

AGENCY: Department of Defense (DoD).

ACTION: Final rule.

SUMMARY: DoD is revising the name of 48 CFR Chapter 2 from “Department of Defense” to “Defense Acquisition Regulations System, Department of Defense.” This change will facilitate the Government's implementation of the Federal Document Management System, as it will permit the DoD regulations issued under 48 CFR Chapter 2 to be indexed separately from other DoD regulations.

DATES: Effective Date: December 30, 2005.

FOR FURTHER INFORMATION CONTACT: Ms. Michele Peterson, Defense Acquisition Regulations System, OUSD(AT&L)DPAP(DAR), IMD 3C132, 3062 Defense Pentagon, Washington, DC 20301-3062. Telephone (703) 602-0311; facsimile (703) 602-0350.

List of Subjects in 48 CFR Chapter 2

Government procurement.

Michele P. Peterson,
Editor, Defense Acquisition Regulations System.

Therefore, under the authority of 41 U.S.C. 421 and 48 CFR Chapter 1, 48 CFR Chapter 2 is amended by revising the name of the chapter to read “Defense Acquisition Regulations System, Department of Defense'.

[FR Doc. 05-24220 Filed 12-19-05; 8:45 am]

BILLING CODE 5001-08-P